DEPARTMENT OF HEALTH AND HUMAN SERVICES

Office of the Secretary

[Document Identifier: HHS-OS-20883-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for a new collection. Comments submitted during the first public review of this ICR will be provided to OMB. OMB will accept further comments from the public on this ICR during the review and approval period.

DATES: Comments on the ICR must be received on or before April 7, 2014.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the Information Collection Request Title and document identifier HHS-OS-20883-30D for reference.

Information Collection Request Title: Support and Services at Home (SASH) Participant Survey.

Abstract: The Office of the Assistant Secretary for Planning and Evaluation (ASPE) is requesting approval from the Office of Management and Budget (OMB) to conduct a survey of Support And Services at Home (SASH) participants to assess the impact of the SASH program on health outcomes. Information collected includes general health status, functional status, quality of life, medication problems and dietary issues. The SASH program operates in Vermont and links staff based in housing properties with a team of community-based health and supportive services providers to help older adults coordinate and manage their care needs. SASH services include: Assessment by a multidisciplinary team, creation of an individualized care plan, on-site nursing and care coordination with team members and other local partners, and community activities to support health and wellness. SASH is anchored in affordable senior housing properties, serving residents in the property and seniors living in the surrounding community.

The goal of this project is to conduct a comprehensive evaluation of the SASH program. The evaluation will assess whether the SASH model of coordinated health and supportive services in affordable housing improves quality of life, health and functional status of participants. The evaluation has been designed to comprehensively address the research questions while minimizing the burden placed on the SASH program staff, their partners (e.g., service providers), and Medicare and dually eligible Medicare and Medicaid beneficiaries. The mail survey is designed to collect outcomes that cannot be measured from claims data or other sources. We will use brief, standardized scales with demonstrated reliability and validity in older adults. Information collected in the survey is not of a sensitive nature. Questions in the beneficiary survey are confined to health outcomes. RTI International will conduct and analyze the survey. RTI has experience doing similar work for ASPE and other government clients.

Need and Proposed Use of the Information: To determine the impact of the SASH program on quality of life, health and functional status of participants. Care has been taken to ensure that there is no overlap between other ongoing state evaluations. Through discussions with SASH program staff and other state officials in Vermont, we determined that the information we seek to collect is not already being collected from our proposed sample, nor can it be measured from claims data. As a result of these efforts, the information collected through the survey will not duplicate any other effort and is not obtainable from any other source.

Likely Respondents: The target population for the survey is Medicare beneficiaries participating in the Support and Services at Home (SASH) demonstration. SASH provides integrated, home-based services to beneficiaries in selected housing properties throughout Vermont. At this point, 1,685 intervention beneficiaries have been identified in 37 SASH sites.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Number of respondents | Number of responses per respondent | Average burden per response (in hours) | Total burden hours
SASH Participant Survey | 669 | 1 | 20/60 | 223
Total | 669 | 1 | 20/60 | 223

Darius Taylor,
Deputy, Information Collection Clearance Officer.

[FR Doc. 2014-04939 Filed 3-5-14; 8:45 am]

BILLING CODE 4150-05-P